DEPARTMENT OF STATE

[Public Notice: 12621]

Notice of Receipt of Request From the Government of the Socialist Republic of Vietnam

ACTION: Notice.

SUMMARY: Notice of receipt of request from Vietnam for cultural property protection.

FOR FURTHER INFORMATION CONTACT: Anne Compton, Cultural Heritage Center, Bureau of Educational and Cultural Affairs: (202) 904-0878; culprop@state.gov; include “Vietnam” in the subject line.

SUPPLEMENTARY INFORMATION: The Government of the Socialist Republic of Vietnam made a request to the Government of the United States on November 13, 2024, under Article 9 of the 1970 UNESCO Convention on the Means of Prohibiting and Preventing the Illicit Import, Export and Transfer of Ownership of Cultural Property. Vietnam's request seeks U.S. import restrictions on archaeological and ethnological materials representing Vietnam's cultural patrimony. The Cultural Heritage Center website will provide instructions for public comment and additional information on the request, including categories of material that may be included in import restrictions: https://eca.state.gov/highlight/cultural-property-advisory-committee-meeting-february-4-6-2025. This notice is published pursuant to authority vested in the Principal Deputy Assistant Secretary of State for Educational and Cultural Affairs and pursuant to 19 U.S.C. 2602(f)(1).

Allison R. Davis Lehmann,
Executive Director, Cultural Property Advisory Committee, Department of State.

[FR Doc. 2024-31254 Filed 12-27-24; 8:45 am]

BILLING CODE 4710-05-P